DEPARTMENT OF AGRICULTURE

Forest Service

Revised Land and Resource Management Plan for the National Forests in Mississippi

AGENCY: Forest Service, USDA.

ACTION: Notice of intent to prepare an Environmental Impact Statement.

SUMMARY: The Regional Forester for the Southern Region gives notice of the agency's intent to prepare an Environmental Impact Statement (EIS) for revision of the Forest Land and Resource Management Plan (Forest Plan) for the National Forests in Mississippi. According to 36 CFR 219.10(g), Forest Plans are ordinarily revised on a 10-15 year cycle. The planning process will be initiated under the 1982 Forest Service planning regulations (36 Code of Federal Regulations 219 et seq., as is provided for at 36 CFR 219.35(b) of the current regulations). The existing Forest Plan for Mississippi was approved on September 16, 1985. On December 14, 1999, a Notice of Intent to revise the Forest Plan was published in the Federal Register (FR 69686, December 14, 1999). This 2003 Notice of Intent updates the projected schedule for Forest Plan revision and provides an opportunity for additional public comments. The agency invites written comments and suggestions from American Indian tribes, Federal agencies, State and local governments, individuals and organizations on the scope of the analysis to be included in the draft EIS (DEIS) (40 CFR 1501.7).

This Notice of Intent affects the following counties in Mississippi: Adams, Amite, Benton, Chickasaw, Choctaw, Copiah, Forrest, Franklin, George, Greene, Harrison, Jackson, Jasper, Jefferson, Jones, Lafayette, Lincoln, Marshall, Newton, Oktibbeha, Pearl River, Perry, Pontotoc, Scott, Sharkey, Smith, Stone, Tippah, Union, Wayne, Wilkinson, Winston, and Yalobusha counties in Mississippi.

DATES: Comments concerning the scope of the analysis should be received on or before 45 days from publication of this Notice. The agency expects to file the draft EIS with the Environmental Protection Agency and make it available for public comment in November, 2005. The agency expects to file the final EIS in November, 2006. See SUPPLEMENTARY INFORMATION section for meeting dates.

ADDRESSES: Submit written comments to Forest Plan Revision, National Forests in Mississippi, 100 West Capitol St., Suite 1141, Jackson, MS 39269. Electronic mail should include “Forest Plan Revision” in the subject line and be sent to: Mississippi_Plan@fs.fed.us.

FOR FURTHER INFORMATION CONTACT: National Forests in Mississippi: Planning Team Leader Jeff Long (phone 601-965-4391; TTY 601-965-6038). Electronic mail should include “Forest Plan Revision” in the subject line and be sent to: Mississippi_Plan@fs.fed.us. Information about Forest Plan revision and future opportunities to participate will be posted at the following Web site: http://www.southernregion.fs.fed.us/mississippi/.

Responsible Official: The Regional Forester for the Southern Region, located at 1720 Peachtree Road, NW., Atlanta, Georgia 30309, is the Responsible Official.

SUPPLEMENTARY INFORMATION:

I. Background Information

A Notice of Intent to revise the 1985 Forest Plan for the National Forest in Mississippi was published in the Federal Register in 1999 (FR 69686, December 14, 1999). However, Forest Plan revision efforts for the National Forests in Mississippi were delayed due to changes in national planning priorities and reduced funding. This (revised) Notice of Intent provides public notice that the revision for the National Forests in Mississippi is again underway, updates the December 1999 projected schedule for Forest Plan revision, and affords an opportunity for additional public comments on the scope of the analysis to be included in the draft EIS.

The Forest Plan covers the six proclaimed National Forests in Mississippi; Bienville, Delta, De Soto, Homochitto, Holly Springs and Tombigbee National Forests. Decisions made in the Forest Plan identify actions that may take place but do not represent a commitment by the agency to implement site-specific projects. Forest Plan decisions do not normally make any irreversible or irretrievable commitment of resources. Site-specific decisions, which may involve irreversible or irretrievable commitment of resources are reserved for the second stage decisions which follow Forest Plan decisions.

The following decisions are made in a Forest Plan:

(1) Establishment of the forest-wide multiple-use goals and objectives (36 CFR 219.11(b)).

(2) Establishment of forest-wide management requirements (36 CFR 219.13 to 219.27).

(3) Establishment of multiple-use prescriptions and associated standards and guidelines for each management area (36 CFR 219.11(c)).

(4) Determination of land that is suitable for the production of timber (16 U.S.C. 1604(k) and 36 CFR 219.14).

(5) Establishment of allowable sale quantity for timber within a time frame specified in the plan (36 CFR 219.16).

(6) Establishment of monitoring and evaluation requirements (36 CFR 219.11(d)).

(7) Recommendation of roadless areas as potential wilderness areas (36 CFR 219.17).

(8) Where applicable, designation of those lands administratively available for oil and gas leasing; and when appropriate, authorizing the Bureau of Land Management to offer specific lands for leasing (36 CFR 228.102(d) and (e)).

The authorization of site-specific activities within a plan area occurs through project decision-making, the second state of forest planning. Project decisions must comply with National Environmental Policy Act (NEPA) procedures and must include determination that the project is consistent with the Forest Plan decisions listed above. (Note: The above citations are from the 1982 36 CFR 219 planning regulations)

II. Purpose and Need for Action

The purpose for this revision rests primarily in the requirements of the National Forest Management Act. The law's implementing regulations at 36 CFR 219.10(g) require that Forests Plans be revised at least every 15 years.

A genuine need to revise the plan exists due to: Changes in policy or law and changed physical, biological, and social conditions occurring on the forest.

Changes in Policy or Law

A substantial body of case law has developed since the Mississippi plan was written, which more clearly defines the roles and requirements of a Forest Plan. One resulting example is the concise listing of eight forest-plan decisions given above. Similarly, the science and policy of national forest management have continued to evolve. The service-wide adoption of Ecosystem Management in 1992, in 1994 with its “Course to the Future” document, the Southern Region's recovery plan for management of the Red-cockaded Woodpecker in 1995, 2002 Southern Forest Resource Assessment, the USDA Forest Service Strategic Plan (2000 Revision) direction and 2003 Healthy Forests Initiative are illustrations of such changes. These policy statements represent a fundamental change in management philosphy and, as such, are built from an extensive set of concepts and principles.

Changed Physical, Biological, and Social Conditions

Hurricanes, tornadoes, ice storms, and Southern Pine Beetle outbreaks have made changes to the forest beyond those contemplated in the current plan. Beaver impoundments and the success of exotics such as kudzu and cogongrass have made, or threaten, additional changes. In many areas, our neighbors and customers have also changed significantly. Particularly near the Gulf Coast, the private lands in and around the national forests have become more densely populated with an increasingly urban population. Urban interface is occurring in varying degrees on all national forests within the state.

III. Proposed Action

The Regional Forester for the Southern Region proposes to prepare an Environmental Impact Statement (EIS) for revising of the Forest Land and Resource Management Plan (Forest Plan) for the National Forests in Mississippi. The Forest Plan will prescribe resource management direction pursuant to the requirements of the National Forest Management Act for the six proclaimed National Forests in Mississippi; Bienville, Delta, De Soto, Homochitto, Holly Springs and Tombigbee National Forests. The agency invites the public, state and local government officials and their representatives, other federal agencies, and any affected Indian tribes to participate in the forest plan revision process which will proceed over the next 24 to 36 months before a final revised Forest Plan is issued.

The current Forest Plan for the National Forests in Mississippi requires revision to incorporate agency established ecosystem management principles. The Forest Service will identify ecological units through the Landtype Association (LTA) level, according to the Forest Service National Hierarchical Framework of Ecological Units. Management direction in the revised Forest Plan would work toward maintaining the long-term ecological structure and function of affected ecosystems.

The current Forest Plan contains limited descriptions of the desired conditions (DC's). The current plan's DC's will be updated to accurately reflect evolving agency and public expectations regarding resource uses, products, values or services occurring on or generated from national forest administered lands. One of the more critical tasks to be accomplished during the forest plan revision process will be development of updated DC's. Desired Conditions (DC's) are descriptive statements expressing a collective vision of landscape conditions and the uses, products, values, and services that will be provided by these conditions. The desired condition and the associated outcomes will serve as central reference points for planning and management of national forest lands. DC's will be developed in response to the significant issues identified during scoping. Extensive public participation will be sought as the forest identifies and develops these DC's. Each DC will utilize established ecological units as a criteria for defining their location and capabilities. Each DC will emphasize the resource or condition which the issue addresses. Plan revision alternatives will be developed by allocating land areas to individual DC's. Notwithstanding the issue to which it responds, each desired condition must incorporate concepts of sustainability and multiple-use resource management principles.

IV. Preliminary Issues

The following preliminary issues were developed from the 10-year review of the current plan and subsequent annual monitoring reports, together with the public and internal response to their findings and from public comments received on project level proposals and from comments made during the earlier 1999 public forest plan scoping. Public comments in response to this notice will help us to determine additional issues and scope of the analysis to be considered.

Forest Health/Sustainability

Sustainable Forest Ecosystem Management is a key component of the Forest Service Natural Resource Agenda. Watersheds are vital to ecosystem health. Healthy watersheds promote healthy forests and sustainable forest ecosystems. The revised Forest Plan will incorporate Forest Service policy to restore and maintain healthy watersheds for use by current and future generations.

Forest Health and Sustainability topics include:

• Forest biological diversity.

• Native forest ecosystem restoration and maintenance.

• Forest Health, especially protection from insects and diseases.

• Prescribed fire's role for residual fuels reduction as well as its role for managing ecosystems will be expanded.

• Old growth.

• Protection of riparian areas.

• Streamside zone management.

• Control or eradication of noxious weeds occurring on national forest lands.

• Management of special interest areas.

Vegetation Management

The harvest and regeneration of timber-producing trees have always been a central issue in national forest planning. Over the life of the current Forest Plan, timber has generally ranked as the second most valuable agricultural corps in the State of Mississippi. This preliminary issue assumes additional significance because of its impact on other resources, such as recreation and wildlife. Not surprisingly, forest regeneration and timber harvest were the subject of more review comments than any others. Public comments received on the 10-year Review of the Land and Resource Management Plan expressed support for timber harvests to continue at current or higher levels and others objected to the level. Individuals and organizations involved in the timber industry or local government have expressed concern about the impact of national forest timber harvests on local economies, particularly on employment and the 25% returns to counties for roads and schools. The average actual timber volume sold on the National Forests in Mississippi was just over 80% of the amount planned for fiscal years 1985 through 1995. However, declines in harvest levels have occurred over the last several years causing concern for individuals and organizations involved in the timber industry and local government officials concerned about declining revenues.

Vegetation Management focuses on:

• Lands suitable for timber production.

• Relationship of timber harvest levels to local economies and jobs.

• Silvicultural systems and how they affect sustainability and forest health.

• Hardwood management within pine stands.

• Mixed pine management.

• Alternative forest products, such as pine straw raking and removal.

• Role of herbicide use in forest management.

Threatened, Endangered, Proposed and Sensitive Species Management

Red-Cockaded Woodpecker (RCW) Decisions. The Final Environmental Impact Statement for the Management of the Red-cockaded Woodpecker and its Habitat on National Forests in the Southern Region (RCW/EIS) was issued in June of 1995. The RCW/EIS contains direction to revise previous management practices, standards, and guidelines, and its Record of Decision (ROD) instructs affected forests to incorporate the new direction into their Forest Plan, through revision or amendment. The RCW/EIS ROD also includes an amendment (number 14) to the current Forest Plan for the National Forests in Mississippi which is designed to bridge the gap until the Forest Plan revision can be accomplished. Toward that end, Amendment 14 designates tentative RCW Habitat Management Areas (HMAs) and tentative population objectives. It also continues the interim standards, adopted in 1990, for areas within ¾-mile of active and inactive RCW clusters. For areas within the tentative HMAs but outside the ¾-mile circles, current Forest Plan standards and guidelines remain in effect with the exception that silvicultural methods and practices are limited. Available options include thinning, two-aged shelterwood, and uneven-aged management by either single-tree or group-selection methods. Clearcutting is allowed only to restore Longleaf or other desirable native pines to appropriate sites occupied by species less suitable for RCW.

The revised Forest Plan must establish final HMA boundaries and population objectives. The RCW/EIS Record of Decision established tentative HMAs on 367,169 acres on the Bienville, De Soto, Chickasawhay, and Homochitto Ranger Districts. The accompanying tentative population goal is 1,595 active clusters. As of 2002, the forest's total number of active clusters was 187. Additionally, the Forest Plan revision must incorporate the management practices, standards, and guidelines in the RCW Record of Decision Appendix A and in the revised RCW recovery plan. The HMAs and population objectives are subject to some modification. In addition, opportunities will be examined to expand existing HMAs or create additional HMAs. Any changes to HMAs require analysis beyond that contained in the RCW/EIS as well as a favorable opinion from the U.S. Fish and Wildlife Service obtained through formal consultation.

Other Threatened and Endangered Species

Management for other proposed, endangered, threatened, and sensitive (PETS) species will also require consideration during plan revision. Recovery plans for the affected species are developed by the U.S. Fish and Wildlife Service and their prescribed conservation and protection measures will be incorporated in forest management activities. The Forest Service will continue efforts to conserve PETS species and their habitats.

Proposed, endangered, threatened, and sensitive species management facets to be addressed during plan revision include:

• Develop management practices (actions) that promote (sustain) viable populations of proposed, endangered, threatened, and sensitive species and their habitats occurring on national forest lands.

• Determine how much of the National Forests in Mississippi's land base will be allocated to red-cockaded woodpecker management (Habitat Management Areas) and what effect such allocation will have on other resource management options.

Transportation and Access

Management of our forest transportation system attracts public interest. Almost all users of the national forests use forest roads. The revised Forest Plan will incorporate the National Roads policy.

The current extensive system of roads and trails allows access to nearly every part of the forest. In addition, and by the direction of the current Forest Plan, the National Forests in Mississippi are “generally open to ORV's” (off-road vehicles), now more often referred to as OHV's (off-highway vehicles). Exceptions are individually identified areas of potential resource damage or conflict with other uses. Motorized use can reduce the habitat quality for some wildlife species and cause damage to the soil resource on sensitive sites. The use of motorized vehicles can also conflict with users who are seeking more solitude or create safety concerns for non-motorized users such as hikers or horseback riders. Motorized vehicle use, particularly that of all-terrain vehicles (ATV's), has increased dramatically over the last ten years. Furthermore, the current plan's assumption that cross-country travel by OHV's would be “limited by heavy undergrowth” has proven inaccurate. As a result, instances of resource damage and user conflicts have become increasingly common.

Transportation and access facets to be addressed during plan revision include:

• Management area direction should address transportation management and access needs. The forest's road system will be managed to meet resource needs and provide adequate public access.

• Determine level of local roads required to provide permanent, effective access to national forest lands for all resource management needs.

• Address off-road vehicles (ORV's) management to provide the appropriate level of recreational opportunities while protecting other resources.

Recreation

National Forests in Mississippi offer a host of outdoor recreation opportunities. Recreation demand, both dispersed and developed, is expected to continue to increase over the next plan cycle. Increases in recreation use often create resource management conflicts. Different user groups compete for use of the same area, each having different expectations.

Planning will address five key areas: (1) Improving the settings for outdoor recreation and enhancing visitor experiences, (2) guaranteeing visitor satisfaction with our services and facilities, (3) reaching out to rural and urban communities to capitalize on the social and economic opportunities associated with recreation on national forests, (4) strengthening our relationships with those who cooperate with us to improve outdoor recreation for all Americans, and (5) ensuring that recreation use does not impair the land's health.

Prescribed Fire

Prescribed fire is an important management tool on the National Forests in Mississippi. The forest consistently ranks first or second in the nation in the amount of acreage to which it is applied. Historically, fire played a significant role in shaping the native plant and animal communities in Mississippi. Prior to European settlement, fires occurred throughout the year on a variety of sites, whenever conditions allowed natural or aboriginal ignitions to spread. Studies indicate that fire can have an influence on the successful regeneration of oaks. One of the concepts underlying ecosystem management is that natural processes should be simulated to the greatest extent possible. This builds on the idea that the structure and function of native ecosystems is best maintained by the conditions under whey they evolved. Prescribed fire facets to be addressed during plan revision include:

• Determine role of prescribed fire in achieving forest ecosystem management goals and objectives.

• Identify and evaluate the extent, time of year (including summer growing season), and frequencies for prescribed fire use as an ecosystem management tool.

• Evaluate impacts associated with use of plow lines and establish appropriate standards and guidelines.

• Consider use of permanent fire lines, especially within wildland/urban interface zones.

Roadless Areas

The Final Environmental Impact Statement (FEIS) for Roadless Area Review and Evaluation II (RARE II) of 1979 inventoried three roadless areas on national forest lands in Mississippi. Two areas, Black Creek and Leaf, were recommended for wilderness designation. The third, Sandy Creek, was listed for further study. The Mississippi National Forest Wilderness Act of 1984 (Pub. L. 98-515, Oct. 19, 1984, 98 Stat. 2420) established the Black Creek Wilderness and the Leaf Wilderness. Included in the act was “release” language which directed that inventoried areas not designed as wilderness be managed for multiple use; however, the act also directed that the “wilderness option” be reviewed for such areas when the Forest Plan was revised. For the National Forests in Mississippi, the Sandy Creek areas is the only one in thsi category. Additional areas have been and may be yet identified by the public for consideration during plan revision.

V. Development of Alternatives

The alternatives presented in the forest's Draft Environmental Impact Statement (DEIS) will portray a full range of responses to significant issues. The range of alternatives will include one that continues current management direction, as well as others that address the range of issues developed during the scoping process. The Draft Environmental Impact Statement will examine the effects of implementing strategies to achieve different overall desired conditions for the forest, including possible management practices and objectives that move the forest toward desired conditions. A preferred alternative will be identified in the Draft Environmental Impact Statement.

VI. Involving the Public

The obejective in this process for public involvement is to create an atmosphere of openness where all members of the public feel free to share information with the Forest Service and its employees on a regular basis. An active dialogue with the public will enable the forest to gather ideas, concerns and determine public attitudes and encourage public involvement in a planning process that fully integrates the needs and values of all segments of the public, including low-income, minority and historically underserved communities.

The Forest Service is seeking information, comments, and assistance from Federal, State, and local agencies, Indian tribes, and other individuals or organizations who may be interested in or affected by the proposed action. This input will be utilized in the preparation of the Draft Environmental Impact Statement. The range of alternatives to be considered in the DEIS will be based on the identification of significant public issues, management concerns, resource management opportunities, and plan decisions specific to the National Forests in Mississippi. Public participation will be solicited by a variety of methods, including notifying in person and/or by mail, known interested and affected publics. News releases will be used to give the public general notice, and public scoping meetings will be conducted as deemed appropriate. A Forest Planning Web site will be maintained to serve as an additional avenue for communicating with interested publics.

Public participation, facilitated by open decision making process, will be sought throughout the plan revision process and will be especially important at several points along the way. The first opportunity to comment will be during the scoping process (40 CFR 1501.7). Scoping includes: (1) Identifying additional potential issues (other than those previously described), (2) from these, identifying significant issues or those which have been covered by prior environmental review, (3) exploring additional alternatives, and (4) identifying potential environmental effects of the proposed action and alternatives (i.e., direct, indirect, and cumulative effects). Public scoping comments received during the 2000 public scoping meetings will be used along with public comments received following this revised Notice of Intent.

Public meetings will be scheduled throughout the plan revision process. Their location and frequency of occurrence will vary depending on their specific objectives. Public meetings may focus on specific key issues to seek clarification and understanding prior to development of alternatives and evaluation of effects. Public notice will be provided through publication in the newspaper of record for National Forests in Mississippi (the Clarion-Ledger, published daily in Jackson, Mississippi). Notice will also be served through direct mailings to interested and affected parties identified during the plan revision process and posting on the National Forests in Mississippi Web site at: www/southernregion.fs.fed.us/mississippi.

VII. Release and Review of EIS

The Draft Environmental Impact Statement is expected to be filed with the Environmental Protection Agency (EPA) and to be available for public review by November 2005. At that time, EPA will publish a notice of availability of the draft supplement in the Federal Register. The comment period for the Draft Environmental Impact Statement will be 90 days from the date the EPA's notice of availability appears in the Federal Register.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC. 435 U.S. 519, 553(1978). Also environmental objections that could be raised at the DEIS stage but that are not raised until completion of the Final Environmental Impact Statement (FEIS) may be waived or dismissed by the courts, City of Angoon v. Hodel, 803 f.2d 1016, 1022 (9th Cir. 1986) and Wisconsin Heritages, Inc. v. Harris, 490 F.Supp.1334, 1338 (E.D. Wis. 1980). Because of these court rulings, it is very important that those interested in this proposed action participate by the close of the three month comment period so that substantive comments and objections are made available to the Forest Service at a time when it can consider them and respond to them in the FEIS.

To assist the Forest Service in identifying and considering issues and concerns on the proposed actions, comments on the DEIS should be as specific as possible. It is also helpful if comments refer to specific pages or chapters of the draft statement. Comments may also address the adequacy of the DEIS or the merits of the alternatives formulated and discussed in the statement. Reviewers may wish to refer to the Council on Environmental Quality Regulations for the procedural provisions of the National Environmental Policy Act at 40 CFR 1503.3 in addressing these points.

After the comment period ends on the DEIS, the comments will be analyzed, considered, and responded to by the Forest Service in preparing the FEIS. The FEIS is scheduled to be completed by November, 2006. The responsible official will consider the comments, responses, environmental consequences discussed in the final environmental impact statement, and applicable laws, regulations, and policies in making a decision regarding this proposal. The responsible official will document the decision and reasons for the decision in a Record of Decision. The decision will be subject to appeal in accordance with 36 CFR 217.

Dated: September 22, 2003.
Roberta A. Moltzen,
Acting Regional Forester.

[FR Doc. 03-24373 Filed 9-25-03; 8:45 am]

BILLING CODE 3410-11-M